DEPARTMENT OF TRANSPORTATION

Federal Aviation Administration

14 CFR Part 39

[Docket No. FAA-2007-28853; Directorate Identifier 2006-NM-218-AD]

RIN 2120-AA64

Airworthiness Directives; Airbus Model A300-600 Series Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

At some locations, the new calculated fatigue life [for the wing to center box assembly] falls below the aircraft Design Service Goal.

The aim of this Airworthiness Directive (AD) is * * * to ensure detection of cracks on the panels and stiffeners at rib No. 1. This situation, if left uncorrected, could affect the structural integrity of the area.

The proposed AD would require actions that are intended to address the unsafe condition described in the MCAI.

DATES: We must receive comments on this proposed AD by September 4, 2007.

ADDRESSES: You may send comments by any of the following methods:

• DOT Docket Web Site: Go to http://dms.dot.gov and follow the instructions for sending your comments electronically.

• Fax: (202) 493-2251.

• Mail: U.S. Department of Transportation, Docket Operations, M-30, West Building Ground Floor, Room W12-140, 1200 New Jersey Avenue, SE., Washington, DC 20590.

• Hand Delivery: Room W12-140 on the ground floor of the West Building, 1200 New Jersey Avenue, SE., Washington, DC, between 9 a.m. and 5 p.m., Monday through Friday, except Federal holidays.

• Federal eRulemaking Portal: http://www.regulations.gov. Follow the instructions for submitting comments.

Examining the AD Docket

You may examine the AD docket on the Internet at http://dms.dot.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2007-28853; Directorate Identifier 2006-NM-218-AD” at the beginning of your comments. We specifically invite comments on the overall regulatory, economic, environmental, and energy aspects of this proposed AD. We will consider all comments received by the closing date and may amend this proposed AD based on those comments.

We will post all comments we receive, without change, to http://dms.dot.gov. including any personal information you provide. We will also post a report summarizing each substantive verbal contact we receive about this proposed AD.

Discussion

The European Aviation Safety Agency (EASA), which is the Technical Agent for the Member States of the European Community, has issued EASA Airworthiness Directive 2006-0257, dated August 24, 2006 (referred to after this as “the MCAI”), to correct an unsafe condition for the specified products. The MCAI states:

During installation of the wing to the centre box junction on the Final Assembly Line, some “taperlocks” fasteners were found non compliant with the specification.

Fatigue tests on samples and calculation performed on non-conform fasteners demonstrated that this defect could lead to decrease the fatigue lift of the wing to centre wing box assembly.

At some locations, the new calculated fatigue life falls below the aircraft Design Service Goal.

The aim of this Airworthiness Directive (AD) is to mandate repetitive inspections to ensure detection of cracks on the panels and stiffeners at rib No. 1. This situation, if left uncorrected, could affect the structural integrity of the area.

The corrective action includes contacting Airbus for repair instructions in the event of crack finding. You may obtain further information by examining the MCAI in the AD docket.

Relevant Service Information

Airbus has issued Service Bulletin A300-53-6154, including Appendix 01, dated June 20, 2006, and A300-600 Airworthiness Limitations Items Document AI/SE-M2/95A.0502/06, Issue 11, dated April 2006. the actions described in this service information are intended to correct the unsafe condition identified in the MCAI.

FAA's Determination and Requirements of This Proposed AD

This product has been approved by the aviation authority of another country, and is approved for operation in the Unitejd States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 7 products of U.S. registry. We also estimate that it would take about 79 work-hours per product to comply with the basic requirements of this proposed AD. The average labor rate is $80 per work-hour. Based on these figures, we estimate the cost of the proposed AD on U.S. operators to be $44,240, or $6,320 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the4 estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2007-28853; Directorate Identifier 2006-NM-218-AD.

Comments Due Date

(a) We must receive comments by September 4, 2007.

Affected ADs

(b) None.

Applicability

(c) This AD applies to Airbus Model A300-600 series airplanes, manufacturing serial number (MSN) 0815 up to MSN 0821 inclusive, certificated in any category.

Subject

(d) Air Transport Association (ATA) of America Code 53: Fuselage.

Reason

(e) The mandatory continuing airworthiness information (MCAI) states:

During installation of the wing to the centre box junction on the Final Assembly Line, some “taperlocks” fasteners were found non compliant with the specification.

Fatigue tests on samples and calculation performed on non-conform fasteners demonstrated that this defect could lead to decrease the fatigue life of the wing to centre wing box assembly.

At some locations, the new calculated fatigue life falls below the aircraft Design Service Goal.

The aim of this Airworthiness Directive (AD) is to mandate repetitive inspections to ensure detection of cracks on the panels and stiffeners at rib No. 1 This situation, if left uncorrected, could affect the structural integrity of the area.

The corrective action includes contacting Airbus for repair instructions in the event of crack finding.

Actions and Compliance

(f) Unless already done, do the following actions.

(1) Action No. 1, for the center wing box:

(i) At the later of the times in paragraphs (f)(1)(i)(A) and (f)(1)(i)(B): Do an external ultrasonic inspection for cracking of the taperlocks fasteners of the center wing box, in accordance with the Accomplishment Instructions of Airbus Service Bulletin A300-53-6154, including appendix 01, dated June 20, 2006. If any crack is detected: Before further flight, contact Airbus for repair instructions, and repair.

(A) Before the accumulation of 19,800 total flight cycles or 41,200 flight hours, whichever occurs first.

(B) Within 3 months after the effective date of this AD.

(ii) Repeat the inspection thereafter at intervals not to exceed 3,300 flight cycles or 6,900 flight hours, whichever occurs first, in accordance with the Accomplishment Instructions of Airbus Service Bulletin A300-53-6154, including Appendix 01, dated June 20, 2006.

(iii) The repetitive interval specified in paragraph (f)(1)(ii) of this AD is valid until the threshold of Airbus A300-600 Airworthiness Limitation Items (ALI) Task 571006-02-1 is reached. After reaching this threshold, the ultrasonic inspection is to be done according to Task 571006-02-1, “Special detailed inspection (Ultrasonic) of wing junction at rib 1 horizontal flange of lower T section, between FR40 and FR47 inboard side, LH/RH,” of Airbus A300-600 Airworthiness Limitation Items Document AI/SE-M2/95A.0502/06, Issue 11, dated April 2006.

(2) Action No. 2, for the outer wing box:

(i) At the later of the times in paragraphs (f)(2)(i)(A) and (f)(2)(i)(B): Do an external ultrasonic inspection for cracking of the taperlocks fasteners of the outer wing box, in accordance with the Accomplishment Instructions of Airbus Service Bulletin A300-53-6154, including Appendix 01, dated June 20, 2006. If any crack is detected: Before further flight, contact Airbus for repair instructions, and repair.

(A) Before the accumulation of 15,200 total flight cycles or 31,700 flight hours, whichever occurs first.

(B) Within 3 months after the effective date of this AD.

(ii) Repeat the inspection thereafter at intervals not to exceed 3,700 flight cycles or 7,700 flight hours, whichever occurs first, in accordance with the Accomplishment Instructions of Airbus Service Bulletin A300-53-6154, including Appendix 01, dated June 20, 2006.

(iii) The repetitive interval specified in paragraph (f)(2)(ii) of this AD is valid until reaching the threshold of Airbus A300-600 Airworthiness Limitation Items (ALI) Task 571022-01-2, “Special detailed inspection (Ultrasonic) of wing-fuselage lower skin splice at rib 1 (wing side).” After reaching this threshold, the ultrasonic inspection is to be done according to Task 571022-01-2 of Airbus A300-600 Airworthiness Limitation Items Document AI/SE-M2/95A.0502/06, Issue 11, dated April 2006.

(3) Action No. 3, for the outer wing box:

(i) At the later of the times in paragraphs (f)(3)(i)(A) and (f)(3)(i)(B): Do an internal x-ray inspection for cracking of the taperlocks fasteners of the outer wing box, in accordance with the Accomplishment Instructions of Airbus Service Bulletin A300-53-6154, including Appendix 01, dated June 20, 2006. If any crack is detected: Before further flight, contact Airbus for repair instructions, and repair.

(A) Before the accumulation of 20,900 total flight cycles or 43,400 flight hours, whichever occurs first.

(B) Within 3 months after the effective date of this AD.

(ii) Repeat the inspection thereafter at intervals not to exceed 1,800 flight cycles or 3,700 flight hours, whichever occurs first, in accordance with the Accomplishment Instructions of Airbus Service Bulletin A300-53-6154, including Appendix 01, dated June 20, 2006.

(iii) The repetitive interval specified in paragraph (f)(3)(ii) of this AD is valid until reaching the threshold of Airbus A300-600 Airworthiness Limitation Items (ALI) Task 571022-02-2, “Special detailed inspection (x-ray) of wing-fuselage lower skin splice at rib 1 (wing side).” After reaching this threshold, the x-ray inspection is to be done according to Task 5710022-02-2 of Airbus A300-60 Airworthiness Limitation Items Document AI/SE-M2/95A.0502/06, Issue 11, dated April 2006.

FAA AD Differences

Note: This AD differs from the MCAI and/or service information as follows: No differences.

Other FAA AD Provisions

(g) The following provisions also apply to this AD:

(1) Alternative Methods of Compliance (AMOCs): The Manager, International Branch, ANM-116, FAA, has the authority to approve AMOCs for this AD, if requested using the procedures found in 14 CFR 39.19. Send information to ATTN: Tom Stafford, Aerospace Engineer, Transport Airplane Directorate, 1601 Lind Avenue, SW., Renton, Washington 98057-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2006-0257, dated August 24, 2006; Airbus Service Bulletin A300-53-6154, including Appendix 01, dated June 20, 2006; and Airbus A300-600 Airworthiness Limitations Items Document AI/SE-M2/95A.0502/06, Issue 11, dated April 2006; for related information.

Issued in Renton, Washington, on July 25, 2007.
Stephen P. Boyd,
Acting Manager, Transport Airplane Directorate, Aircraft Certification Service.

[FR Doc. 07-3774 Filed 8-2-07; 8:45 am]

BILLING CODE 4910-13-M